DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 A.M. and 5:00 P.M. in Room 4211, U.S. Department of Commerce, 14th Street and Constitution Avenue, NW, Washington, DC.

Docket Number: 00-021. Applicant: University of Florida, Materials Science and Engineering, Post Office Box 116400, Gainesville, FL 32611-6400. Instrument: Electron Microscope, Model JEM-2010F. Manufacturer: JEOL Ltd., Japan. Intended Use: The instrument is intended to be used to study the microstructure of metals, metal alloys, ceramics, high-temperature superconductors, semiconductors, polymers, clays, dental implants and soot emissions while conducting the following representative experiments:

1. Structure-property relationships in semiconducting materials.

2. Interface phenomena in oxides.

3. Analysis of interfaces in advanced polymers and photonic devices.

4. The structure of high-temperature materials.

5. Mechanical properties of dental implants.

6. Polymer-protein and polymer-cell interactions.

7. Nanoscale properties of porous silicon.

8. Structure and chemistry of oxide minerals.

9. Structure-property relationships in opto-electronic materials.

10. Strength/hardness enhancement in superlattices.

In addition, the instrument will be used on a one-to-one basis for training of faculty, staff and graduate students. Application accepted by Commissioner of Customs: June 9, 2000.

Docket Number: 00-027. Applicant: Emory University, Department of Biology, 2006 Rollins Research Center, 1510 Clifton Road, Atlanta, GA 30322. Instrument: Slice Physiology Setup. Manufacturer: Luigs and Neumann, Germany. Intended Use: The instrument is intended to be used to do electrophysiological studies using rat brain slices. The experiments consist of preparing slices of rat brain, putting them under the microscope and inserting microeletrodes into single nerve cells. Once the microelectrode is inserted, a fluorescent dye will be injected into the cell body to visualize fine dendritic processes. The microscope will then be moved to focus on one of the visualized fine processes, and a second electrode can be inserted into the same cell. The main objective of this research is to understand neuronal activity and information processing in the mammalian brain. In particular, nerve cells in brain structures involved in a motor control will be studied. In addition, the instrument will be used for educational purposes in the course Bio. 498 Guided Research for Senior Undergraduate Students. Application accepted by Commissioner of Customs: September 5, 2000.

Docket Number: 00-028. Applicant: Ernest Orlando Lawrence Berkeley National Laboratory, One Cyclotron Road, Berkeley, CA 94720. Instrument: Electron Microscope, Model JEM-3010. Manufacturer: JEOL Ltd., Japan. Intended Use: The instrument is intended to be used for studies of the microstructure and microstructural evolution of metals, metal alloys, ceramics, electronic and opto-electronic materials and nanocomposites. The experiments will include:

1. In-situ microscopy—real time evolutions of structure/property/processing relationships.

2. Real time high-resolution electron microscopy.

3. Dislocation and defect studies in materials.

4. Identification of phases and crystal structure by electron diffraction and convergent beam electron diffraction.

In addition, the instrument will be used for significant one-to-one educational use between the staff and users on how to exploit transmission electron microscopy to solve materials problems. Application accepted by Commissioner of Customs: September 5, 2000.

Frank W. Creel,
Director, Statutory Import Programs Staff.

[FR Doc. 00-24850 Filed 9-26-00; 8:45 am]

BILLING CODE 3510-DS-P